DEPARTMENT OF COMMERCE

International Trade Administration

[C-570-057]

Certain Tool Chests and Cabinets From the People's Republic of China: Postponement of Preliminary Determination in Countervailing Duty Investigation

AGENCY: Enforcement and Compliance, International Trade Administration, Department of Commerce.

DATES: Effective July 5, 2017.

FOR FURTHER INFORMATION CONTACT: Hermes Pinilla or Thomas Schauer, AD/CVD Operations, Office I, Enforcement and Compliance, International Trade Administration, U.S. Department of Commerce, 1401 Constitution Avenue NW., Washington, DC 20230; telephone (202) 482-3477 or (202) 482-0410, respectively.

SUPPLEMENTARY INFORMATION:

Background

On May 1, 2017, the Department of Commerce (the Department) initiated the countervailing duty (CVD) investigation of imports of certain tool chests and cabinets (tool chests) from the People's Republic of China.¹ Currently, the preliminary determination in this investigation is due no later than July 5, 2017.

¹ See Certain Tool Chests and Cabinets from the People's Republic of China: Initiation of Countervailing Duty Investigation, 82 FR 21516 (May 9, 2017).

Postponement of Preliminary Determination

Section 703(b)(1) of the Tariff Act of 1930, as amended (Act), requires the Department to issue the preliminary determination in a CVD investigation within 65 days after the date on which the Department initiated the investigation. However, if the petitioner makes a timely request for an extension of the period within which the determination must be made, section 703(c)(1)(A) of the Act allows the Department to postpone making the preliminary determination until no later than 130 days after the date on which the administering authority initiated the investigation.

On June 7, 2017, the petitioner ² submitted a timely request, pursuant to section 703(c)(1)(A) of the Act, that the Department postpone the preliminary determination in this CVD investigation.³ In accordance with 19 CFR 351.205(e), the petitioner stated the reasons for its request. Specifically, the petitioner states that additional time is necessary for the Department and interested parties to fully analyze all questionnaire responses and to issue supplemental questionnaires as necessary.⁴ The Department finds no compelling reason to deny the request. Therefore, pursuant to section 703(c)(1)(A) of the Act, the Department is postponing the deadline for the preliminary determination to no later than 130 days after the date on which this investigation was initiated, i.e., to September 8, 2017. Pursuant to section 705(a)(1) of the Act and 19 CFR 351.210(b)(1), the deadline for the final determination will continue to be 75 days after the date of the preliminary determination.

² The petitioner is Waterloo Industries Inc.

³ See the petitioner's Letter dated June 7, 2017, requesting postponement of the preliminary determination.

⁴ Id.

This notice is issued and published pursuant to section 703(c)(2) of the Act and 19 CFR 351.205(f)(1).

Dated: June 12, 2017.
Ronald K. Lorentzen,
Acting Assistant Secretary for Enforcement and Compliance.

[FR Doc. 2017-14056 Filed 7-3-17; 8:45 am]

BILLING CODE 3510-DS-P